DEPARTMENT OF LABOR

Veterans' Employment and Training Service

HIRE Vets Medallion Program—Announcement of HIRE Vets Medallion Award Recipients

AGENCY: Veterans' Employment and Training Service (VETS), Department of Labor

ACTION: Notice.

SUMMARY: In a ceremony announcing the recipients of the 2024 HIRE Vets Medallion Awards, the Department of Labor (Department) recognized a select group of veteran-ready employers for excellence in recruiting, employing, and retaining America's veterans. The employers honored by the Department on October 31, 2024, include small businesses, nonprofit organizations, and national corporations. Recipients receive an award certificate along with a digital image of the medallion for their use, including as part of an advertisement, solicitation, business activity, or product. The awards are conferred in six categories, based on the size of the employer (small, medium, or large) and what level of criteria their application met (platinum or gold). This action announces the recipients of the 2024 HIRE Vets Medallion Awards.

FOR FURTHER INFORMATION CONTACT: Randall Smith, Veterans' Employment and Training Service, U.S. Department of Labor, Room S-1325, 200 Constitution Avenue NW, Washington, DC 20210, email: HIREVets@dol.gov, telephone: (202) 693-4745 or TTY (877) 889-5627 (these are not toll-free numbers). For press inquiries, contact Bennett Gamble, Office of Public Affairs, U.S. Department of Labor, 200 Constitution Avenue NW, Room S-1032, Washington, DC 20210, email: gamble.bennett@dol.gov, telephone: (202) 693-6587 (this is not a toll-free number).

SUPPLEMENTARY INFORMATION: The HIRE Vets Medallion Awards are authorized by the Honoring Investments in Recruiting and Employing American Military Veterans Act of 2017 (HIRE Vets Act), enacted on May 5, 2017, as Division O of the Consolidated Appropriations Act, 2017, Public Law 115-31, 131 Stat. 838. The Department codified the HIRE Vets Act's requirements through regulations found at 20 CFR part 1011 ¹ and an information collection containing the application forms.² This notice is required by section 2(b)(4)(B) of the HIRE Vets Act and the regulation at 20 CFR 1011.200(d)(2).

¹ For the final rule adopting these regulations, see 82 FR 52186 (Nov. 13, 2017).

² For the information collection and related documents, see OMB Control No. 1293-0015.

VETS received 843 applications for the HIRE Vets Medallion Award in 2023. Among the 843 applications, the Secretary of Labor approved 838 applications for award, with 2 applications denied and 3 applications withdrawn by the applicant. Of the 838 applications approved for award, the breakdown by award type is as follows: 217 small gold (SG), 149 small platinum (SP), 214 medium gold (MG), 165 medium platinum (MP), 75 large gold (LG), and 18 large platinum (LP).

The following list shows the 838 recipients for 2024 in alphabetical order by employer name, along with their doing business as (DBA) name (as applicable), state or territory and city, and award type.³ For more information about the program, including award criteria, key dates, and applicant resources, visit https://www.hirevets.gov.

³ Employer Name and DBA edited as appropriate; VETS is not responsible for any typographical errors.

Employer name | DBA | City | State/ terr. | Award type
2 Circle Inc |  | Arlington | VA | MP
34ED LLC | Centegix | Atlanta | GA | MG
7G Environmental Compliance Management |  | Tallahassee | FL | MG
8-koi |  | Melbourne | FL | MP
9th Way Insignia | Insignia Technology Services | Ashburn | VA | MP
A2 Supply Chain Services LLC | Restoration 1 of Metro Detroit | Ann Arbor | MI | SP
Abile Group, Inc |  | Harwood | MD | MP
Academy Securities, Inc | Academy Securities | New York | NY | MP
ACCIONA Energy USA Global LLC |  | Chicago | IL | MG
Acclaim Technical Services, LLC | ATS ESOP Holdings, Inc | Reston | VA | MG
Actualized Business Solutions, Inc | ABSI Aerospace & Defense | California | MD | SP
Adapt Forward Cyber Security LLC |  | North Charleston | SC | MG
Adaptive Construction Solutions |  | Houston | TX | MP
Adaptive Driving Alliance LLC |  | Cuyahoga Falls | OH | SG
Advanced IT Concepts, LLC |  | Orlando | FL | MP
Advanced Management Strategies Group (AMSG) |  | Dumfries | VA | MP
Advanced Technology International | ATI | Summervillle | SC | MP
Agile IT Synergy, LLC | AITS | Tampa | FL | SP
Agility Federal LLC |  | Phoenix | AZ | SP
Agility Mfg | Agility Mfg., Inc | Dover | NH | SG
AGS LLC |  | Las Vegas | NV | LG
Air Combat Effectiveness Consulting Group, LLC (ACE Group) | ACE Consulting Group, LLC | Lexington Park | MD | MG
Air Quality Solutions Heating & Cooling |  | Grove City | OH | SP
Airbus Helicopters, Inc.7 |  | Grand Prairie | TX | LP
Aldevra LLC | Aldevra LLC | Kalamazoo | MI | SG
All In Solutions, LLC |  | Fredericksburg | VA | MG
Allegient Defense, Inc |  | Arlington | VA | MP
Alliance Cyber |  | Cocoa | FL | SG
ALLO Communications |  | Lincoln | NE | LG
Alluvionic, Inc | Alluvionic | Melbourne | FL | SG
ALLY Construction Services | ALLY Construction Services LLC | Bensalem | PA | MP
AM General LLC |  | South Bend | IN | LG
America Works of California, Inc |  | Fresno | CA | SG
America Works of Tennessee, Inc |  | Memphis | TN | SG
American International Tooling, Inc |  | Minden | NV | SG
American States Utility Services, Inc. (ASUS) |  | San Dimas | CA | MP
AMERICAN SYSTEMS |  | Chantilly | VA | LG
America's Warrior Partnership |  | Augusta | GA | SP
AmeriVet Securities, Inc |  | New York | NY | SP
Ametrine, Inc |  | Round Rock | TX | SP
Amphenol Borisch Technologies |  | Grand Rapids | MI | MG
Antean Technology LLC |  | Alexandria | VA | SG
Antech Systems, Inc | Antech Systems | Chesapeake | VA | MG
Anura Inc | Anura Energy | Naperville | IL | SG
ANVIL SYSTEMS GROUP, INC |  | Lorton | VA | SP
Apogee Solutions, Inc |  | Chesapeake | VA | MG
Apollo Mission Critical Engineering, LLC | Apollo | Ashburn | VA | SG
Applied Companies |  | Valencia | CA | MG
Applied Visual Technology Inc | AVT Simulation | Orlando | FL | MP
A-P-T Research, Inc |  | Huntsville | AL | MP
Aptive Resources |  | Alexandria | VA | MP
Aquatic World of North Syracuse Inc |  | North Syracuse | NY | SG
Area X Cyber Solutions LLC |  | Dumfries | VA | SG
Argo Cyber Systems, LLC |  | Pensacola | FL | SG
ARNOLD DEFENSE AND ELECTRONICS LLC |  | Arnold | MO | SP
Artemis ARC |  | Alexandria | VA | MP
Asheville Buncombe Community Christian Ministries—Veterans Services of the Carolinas | ABCCM | Asheville | NC | MG
ASJ IT Services, LLC | ASJ Solutions | Chesapeake | VA | SG
Assertive Professionals |  | Wilmington | NC | SP
Assured Consulting Solutions |  | Reston | VA | MP
Assured Information Security |  | Rome | NY | MG
At Ease Pest Solutions LLC |  | Troutman | NC | SG
ATC Manufacturing |  | Post Falls | ID | MG
Atec, Inc | Atec, Inc | Stafford | TX | MP
ATECH, Inc |  | Nashville | TN | MG
Atlantic Electric, LLC |  | North Charleston | SC | MG
Atlas Sand Employee Company, LLC | Atlas Energy Solutions | Austin | TX | MP
Atlas Technologies | Atlas Tech | North Charleston | SC | MG
Attollo, LLC |  | New Bern | NC | SP
AutoBase Inc |  | Amityville | NY | MP
AVIAN |  | Lexington Park | MD | MG
Aviate Enterprises, Inc |  | Mcclellan | CA | SP
Azimuth Corporation |  | Beavercreek | OH | MG
Azorna Healthcare LLC | Azorna Hospice and Palliative Care | Mesa | AZ | SG
Bancroft Capital LLC | Bancroft Capital LLC | Fort Washington | PA | SP
Banner Defense, Inc |  | Madison | AL | SP
Barcelona Equipment Inc | Barcelona Equipment Inc | Clearwater | FL | MG
Barnett Engineering & Signaling Laboratories LLC | Barnett Engineering & Signaling Laboratories LLC | Colorado Springs | CO | SP
Battelle Energy Alliance | Idaho National Laboratory | Idaho Falls | ID | LG
Battelle Savannah River Alliance, LLC |  | Aiken | SC | LP
Battle Road Digital, Inc |  | Garden City | ID | SG
Bayaud Enterprises, Inc |  | Denver | CO | MG
BCT LLC | BCT LLC | Annapolis Junction | MD | MP
Beast Code LLC |  | Fort Walton Beach | FL | MG
Beeline Tours Ltd |  | Seattle | WA | SG
Bell Textron Inc |  | Fort Worth | TX | LG
Bergstrom Automotive Management, INC | Devils Lake Cars | Devils Lake | ND | SG
Beshenich Muir & Associates | Beshenich Muir & Associates | Huntsville | AL | MP
Between Two Trees Inc | JDog Junk Removal & Hauling Spokane | Spokane Valley | WA | SG
BGIS |  | Seattle | WA | LG
Black Bear Technology Solutions, LLC |  | Alexandria | VA | SP
Black Hills Service Company LLC | Black Hills Energy | Rapid City | SD | LG
Blake Willson Group, LLC |  | Arlington | VA | MG
BLOKWORX LLC |  | Reno | NV | SG
Blue Star Families |  | Encinitas | CA | MP
BlueHalo, LLC |  | Arlington | VA | LG
BluePath Labs |  | Washington | DC | MG
Bluestaq |  | Colorado Springs | CO | MG
Boingo Wireless |  | Frisco | TX | MG
Boots 2 Cyber, LLC | Boots 2 Cyber, LLC | Paragould | AR | SG
Boston Fusion Corp |  | Lexington | MA | SG
Bower Industries dba Eagle Metalcraft | Eagle Metalcraft | East Syracuse | NY | SG
Brightstar Innovations Group, LLC |  | Arlington | VA | SG
Builders FirstSource |  | Irving | TX | LG
Bullen Ultrasonics |  | Eaton | OH | MP
C & G Consulting, Inc |  | Manassas Park | VA | SG
C2C LLC |  | Chesterfield | MO | SP
CACI International Inc | CACI International Inc | Reston | VA | LG
Caddell Construction |  | Montgomery | AL | MG
CAE USA INC |  | Tampa | FL | LP
Caladwich Consulting LLC |  | Annandale | VA | MP
Calvert Systems Engineering Inc | Calvert Systems Engineering Inc | Bellevue | NE | MG
Cambridge International Systems, Inc |  | Arlington | VA | MG
CANA LLC | CANA Advisors LLC | Gainesville | VA | SG
Canadian Valley Electric Cooperative, Inc |  | Seminole | OK | MG
Canopy Health, LLC |  | Decatur | AL | SP
Career Learning & Employment Center for Veterans Inc | Operation: Job Ready Veterans (OJRV) | Indianapolis | IN | SP
Career Systems Development Corporation/Penobscot Job Corps Center | Penobscot Job Corps Center | Bangor | ME | MG
Carley Corporation | Carley Corporation | Orlando | FL | MG
Carter Machinery Co Inc |  | Salem | VA | LG
Carver Machine Works, Inc | CMW Global | Washington | NC | SG
Castalia Systems LLC |  | Tampa | FL | MG
Castle Hill Associates, LLC |  | Waterville | OH | SG
Caylor Equipment Services LLC |  | Jupiter | FL | SP
CB Design Group |  | Alexandria | VA | SP
CE Solutions Inc |  | Huntsville | AL | SG
CEG Solutions |  | Arlington | VA | SP
Celerity Government Solutions LLC | Xcelerate Solutions | Mclean | VA | MG
Central Texas Workforce Development Board, Inc | Workforce Solutions of Central Texas | Belton | TX | MP
Chameleon Consulting Group, LLC | Chameleon Consulting Group | Herndon | VA | MG
Check-6 Inc |  | Tulsa | OK | MP
Chesapeake Bay Helicopters, Inc |  | Chesapeake | VA | SP
CHI Aviation | Construction Helicopters Inc | Howell | MI | MG
CHVAC Services Holdings, LLC | Alliance Group Services, LLC | Essex Junction | VT | MG
Cincinnati Incorporated |  | Harrison | OH | MP
Cintel Inc | Cintel | Huntsville | AL | MG
Circle Computer Resources |  | Cedar Rapids | IA | MP
Circuit Media LLC |  | Littleton | CO | MP
Citizens Development Center | U&I | Dallas | TX | SG
Citrine, LLC | Citrine LLC | Lakewood | CO | SG
City of Alpharetta |  | Alpharetta | GA | MG
City of Asheboro |  | Asheboro | NC | MG
City of Harker Heights |  | Harker Heights | TX | MG
City of Quincy | City of Quincy | Quincy | IL | MG
City of Toledo |  | Toledo | OH | LG
City of Treasure Island | City of Treasure Island | Treasure Island | FL | MG
City of Westbrook |  | Westbrook | ME | MG
City Utilities of Springfield |  | Springfield | MO | LG
Clarksville Montgomery County Economic Development Council |  | Clarksville | TN | SG
Clear Resolution Consulting, LLC |  | Baltimore | MD | SP
Client Server Software Solutions, Inc. dba Constellation West | Constellation West | Bellevue | NE | MP
CMS Corporation |  | Maumee | OH | MP
Coalfire Systems Inc |  | Greenwood Village | CO | LG
Cognosante |  | Falls Church | VA | LG
Collinsnazzy International Corporation |  | Roosevelt | NY | SG
Colorado Springs Sheet Metal JATC |  | Colorado Springs | CO | MP
Combined Arms |  | Houston | TX | SP
Community Security Services, LLC | CSSI, LLC | Mobile | AL | SP
Companion Data Services |  | Columbia | SC | MG
Compendium Federal Technology LLC |  | Lexington Park | MD | SP
COMSETRA LLC |  | Jay | OK | SG
COMSO, Inc |  | Columbia | MD | MG
Conceras, LLC |  | Fairfax | VA | SP
Concord Crossroads, LLC |  | Dumfries | VA | SG
Concordant, LLC |  | Laramie | WY | SP
Concorde Jet Center | CJC | Brunswick | ME | SG
Conditioned Air of Naples LLC | Conditioned Air | Naples | FL | MG
Conflict Kinetics | Conflict Kinetics | Reston | VA | SG
Consolidated Nuclear Security, LLC |  | Oak Ridge | TN | LG
Constellation Software Engineering, LLC |  | Annapolis | MD | MG
Contracting Resources Group, Inc |  | Baltimore | MD | MP
Control Risks Group LLC | Control Risks | Washington | DC | MG
Convergint Technologies LLC | Convergint | Schaumburg | IL | LG
Converse Construction, Inc |  | Redding | CA | SG
Converse Electric |  | Grove City | OH | MG
Core Government Services Corporation |  | Purcellville | VA | SG
Core4ce, LLC |  | Reston | VA | MG
CornerBrooke, LLC |  | Arlington | VA | SG
Coronet Technology Enterprises, Inc | CTE Workforce | Richmond | VA | SP
Corporate Allocation Services, Inc |  | Westminster | CO | SG
Corporate America Supports You (CASY) | VetJobs | Fort Myers | FL | MP
Corps Solutions LLC |  | Stafford | VA | MP
Cortina Solutions, LLC |  | Huntsville | AL | SG
CP Marine, LLC dba CPMG, LLC |  | Juneau | AK | SP
CPS Energy |  | San Antonio | TX | LG
CPS Professional Services, LLC | CATHEXIS | Mclean | VA | MG
Crane Inspection & Certification Bureau | Crane Inspection & Certification Bureau, LLC | Montgomery | TX | SP
CriticalCxe |  | Annapolis | MD | SP
Crowned Grace International | Crowned Grace Inc. DBA Crowned Grace International | Lanham | MD | SP
Cruz Associates, Inc |  | Yorktown | VA | MP
CSA Global LLC | CSA LLC | Virginia Beach | VA | LP
CTI Resource Management Services, Inc | CTI Resource Management Services, Inc | Jacksonville | FL | MG
Current Technologies Electronics Inc |  | Jackson | NJ | SG
Cutting Edge Irrigation & Lawns, LLC |  | Lindale | TX | SG
CymSTAR LLC |  | Broken Arrow | OK | SG
CymSTAR Services LLC |  | Broken Arrow | OK | SG
DAGER Technology, LLC |  | Fairfax | VA | SP
DarkStar Intelligence, LLC |  | Alexandria | VA | MG
Data Intelligence, LLC |  | Marlton | NJ | MG
Day Wireless Systems | Idaho Communications | Milwaukie | OR | MP
DCO Operations, LLC |  | Lawrenceville | NJ | MG
DD DANNAR, LLC | DANNAR | Muncie | IN | SP
Decisive Point Consulting Group, LLC |  | Waco | TX | MG
Deepwatch, Inc |  | Falls Church | VA | MG
Deer Brook Consulting |  | New Gloucester | ME | SG
DefendEdge OC LLC |  | Glen Ellyn | IL | SP
Defense Consulting Services, LLC |  | San Antonio | TX | MG
Delmarva Veteran Builders, LLC |  | Salisbury | MD | SG
DELTACON GLOBAL INC |  | Sugarland | TX | SP
Devotion Hospice | Devotion Hospice | Conroe | TX | MG
Diana P Byas |  | East Mckeesport | PA | SG
Dillon Transportation |  | Ashland City | TN | MG
Disabled Veterans Call Center LLC | Disabled Veteran Solutions | Erie | PA | MP
DK & R Corp |  | Henderson | NV | SG
DLB Associates | DLB Associates | Neptune City | NJ | MP
Dorrean, LLC |  | Reston | VA | SG
Dotts Group LLC |  | Downingtown | PA | SG
Dr. Donna M. Gentry, DDS, PLLC | Seaside Dentistry | Cedar Point | NC | SG
Draken International LLC |  | Lakeland | FL | MP
Drexel Hamilton, LLC | Drexel Hamilton, LLC | New York | NY | SG
DroneShield LLC |  | Warrenton | VA | SG
DSoft Technology |  | Colorado Springs | CO | SP
DVL Group, Inc |  | Bristol | PA | MG
DWBH, LLC (DWBHCORP) | DWBHCORP | Arlington | VA | SG
Dynamic Planning & Response LLC |  | Honolulu | HI | SP
Eagle Systems, Inc |  | California | MD | MG
Early Services, Inc |  | Decatur | AL | MG
Eastern Carolina Vocational Center, Inc (ECVC) |  | Greenville | NC | SG
Easterseals Redwood |  | Cincinnati | OH | MG
ECHO Housing Corporation | ECHO Housing Corporation | Evansville | IN | SP
EGS, Inc | Empowered Global Solutions | Englewood | CO | MG
E-INFOSOL LLC |  | Rockville | MD | SP
Electrical Test Instruments, LLC | ETI Precision | Frederick | MD | MP
Eljen Corporation |  | Windsor | CT | MP
ELYON International, Inc |  | Vancouver | WA | MG
EM Key Solutions, Inc | EMKS | St. Petersburg | FL | SP
EMD Electronics | EMD Electronics | Austin | TX | MP
EMD LLC |  | Woodbridge | VA | SG
Employment Source, Inc |  | Fayetteville | NC | MP
Energy Systems Group, LLC |  | Newburgh | IN | SP
Enhanced Veterans Solutions, Inc |  | Fairfax | VA | SP
ENSCO Rail, Inc |  | Springfield | VA | MG
ENSCO, Inc |  | Springfield | VA | MG
Entergy Corporation |  | New Orleans | LA | LG
Environet Inc |  | Honolulu | HI | SG
Environmental Chemical Corporation |  | Burlingame | CA | MP
EolianVR, Inc | Eolian | Largo | FL | SG
EPS Corporation | EPS Corporation | Tinton Falls | NJ | MP
EquipmentShare | EquipmentShare.com | Columbia | MO | LG
Era Solutions, LLC |  | Oklahoma City | OK | MG
Erie Industrial Products |  | Oberlin | OH | SG
Ever-Green Energy, Inc |  | St. Paul | MN | MG
Everon | ADT Commercial LLC | Irving | TX | LG
Eversource Energy |  | Hartford | CT | LG
Exact Staff, Inc | Exact Staff, Inc | Calabasas | CA | MG
Excalibur Legal Staffing LLC | The Excalibur Group | Washington | DC | MG
Excel Medical Staffing, LLC |  | Grapevine | TX | SP
Excentium, Inc |  | Reston | VA | SP
Exceptional Employees for Exceptional Results Inc |  | San Diego | CA | MP
Executive Airborne Solutions, Inc |  | Bellevue | NE | SP
EXPANSIA Group LLC | EXPANSIA | Nashua | NH | MP
Explosive Countermeasures International, Inc | ECI | Delaplane | VA | SG
F3EA, Inc |  | Savannah | GA | MG
Fastport, Inc | Fastport, Inc | Valparaiso | IN | SG
Federal Strategies LLC |  | Fredericksburg | VA | SP
Fermilab |  | Batavia | IL | LG
FiberLight LLC |  | Alpharetta | GA | MG
FIRESAFE, LLC |  | Lakeville | MN | MP
First Nation Group, LLC |  | Niceville | FL | MP
Flagship Management, LLC |  | Bristol | PA | MG
Florida is for Veterans, Inc | Veterans Florida | Tallahassee | FL | SG
Fluor Marine Propulsion LLC |  | West Mifflin | PA | LG
Fontaine Consulting, LLC |  | East Moline | IL | SP
Forge Group, LLC | Forge Group, LLC | Reston | VA | MP
FourFront Design, Inc |  | Rapid City | SD | SG
Foxhole Technology |  | Herndon | VA | MP
Frank Cooper State Farm | Frank Cooper Insurance Agency Inc | Chicago | IL | SG
Franklin IQ Inc |  | Arlington | VA | SG
Freedom EMS LLC |  | Shorewood | IL | MG
Freedom Staffing, LLC |  | Indianapolis | IN | MG
Frontier Market Solutions | Ravenox | Mount Vernon | WA | SG
Fusion Cell LLC |  | Windham | NH | SP
Gannon & Scott Phoenix, Inc | Gannon & Scott | Cranston | RI | SG
GC Logistics, LLC |  | Ridgeland | MS | SG
General Dynamics Mission Systems | General Dynamics Mission Systems | Fairfax | VA | LG
General Dynamics NASSCO-Norfolk | General Dynamics NASSCO-Norfolk | Norfolk | VA | MP
General Electric Company |  | Evendale | OH | LG
General Infomatics, Inc | General Infomatics, Inc | Mclean | VA | MG
GET OFF THE DRAWING BOARD, LLC | DIVERGENCE ACADEMY | Addison | TX | SG
Gi4, LLC |  | Leesburg | VA | SP
Global Business Solutions, LLC | GBSI | Pensacola | FL | SP
Global Security Services IA | Global Security Services IA | Davenport | IA | MP
Global Skills Exchange Corporation | GSX, Global Skills X-Change | Alexandria | VA | SG
Global Support and Developmet | Global Support and Development | Charlotte | NC | SG
GLOTECH, Inc |  | Rockville | MD | MP
GMRE |  | South Ogden | UT | MG
Go Energistics |  | Dallas | TX | SG
Goldbelt Apex |  | Herndon | VA | MP
Goldbelt C6, LLC |  | Chesapeake | VA | MP
Goldbelt Falcon, LLC |  | Chesapeake | VA | SP
Goldbelt Frontier, LLC |  | Alexandria | VA | MP
Goldbelt Glacier Health Services, LLC |  | Herndon | VA | MP
Goldbelt Hawk, LLC |  | Newport News | VA | MP
Goldbelt Incorporated |  | Juneau | AK | SG
Goldbelt Integrated Logistics Services |  | Chesapeake | VA | SP
Goldbelt Nighthawk, LLC |  | Newport News | VA | SP
Goldbelt Operations Support Services |  | Herndon | VA | SP
Goldbelt Security, LLC |  | Juneau | AK | SP
Golden Key Group, LLC |  | Reston | VA | MP
Government Tactical Solutions |  | Vienna | VA | MP
Green Expert Technology Inc |  | Haddonfield | NJ | MG
Greencastle Associates Consulting |  | Malvern | PA | MP
GSI Service Group | GSI Service Group | Honolulu | HI | MG
Guardian Angels Medical Service Dogs |  | Williston | FL | SP
GuidePoint Security |  | Herndon | VA | LG
H2 Performance Consulting Corp | H2 Performance Consulting Corp | Gulf Breeze | FL | MP
H2L Solutions, Inc |  | Huntsville | AL | MG
Haastech | Heavy Duty Headquarters | Dallas | TX | SP
Hartman King PC |  | Sacramento | CA | SG
Haze Gray Vineyards LLC | Haze Gray Vineyards LLC | Dobson | NC | SG
Helimax Aviation, Inc |  | Mcclellan | CA | MG
Helmets To Hardhats | Center for Military Recruitment, Assessment and Veterans' Employment | Washington | DC | SG
Heptagon Information Technology, LLC |  | Montgomery | AL | MP
Hernandez Consulting & Construction LLC |  | New Orleans | LA | SP
Hexagon US Federal |  | Chantilly | VA | MP
High Order Solutions |  | Plano | TX | SG
HigherEchelon, Inc |  | Huntsville | AL | MP
Hiller Companies, LLC |  | Mobile | AL | LG
Hilliard Division of Police | Hilliard Division of Police | Hilliard | OH | MP
Hire Heroes USA |  | Alpharetta | GA | MG
HM Cragg |  | Edina | MN | MG
HomeFree, Inc |  | Carlsbad | CA | SG
HTI Hall Trucking Express, Inc |  | Findlay | OH | SG
Hudgins Contracting Corp |  | Hampton | VA | SG
Huff Consulting, LLC |  | Oxford | NC | SG
Huot Construction & Services | Huot Construction & Services | South St. Paul | MN | SG
HurtVet Subcontracting , LLC |  | Park City | UT | SP
Hydro Vac Services LLC dba GroundBreakers LLC | GroundBreakers LLC | Indianapolis | IN | SG
Ignite Fueling Innovation |  | Huntsville | AL | MG
Independence Hydrogen |  | Ashburn | VA | SP
Indigo IT, LLC |  | Herndon | VA | MP
Industrial Packaging Supplies, Inc | IPS Packaging & Automation | Greenville | SC | MP
Infinity Technology Services, LLC | ITS, LLC | Colorado Springs | CO | MP
Information Management Group, Inc |  | Fairfax | VA | MG
Innovative Systems Group Inc |  | Raleigh | NC | SG
iNovex Information Systems |  | Columbia | MD | MP
Inspections Experts, Inc |  | Columbia | MD | MP
Inspired Solutions, Inc |  | Manassas | VA | SG
Inspiring Lives Forever LLC | ILF Transportation | Jacksonville | FL | SP
Integrated Data Services |  | Henderson | NV | MG
Integration Innovation, Inc | i3 | Huntsville | AL | LG
IntelliDyne, LLC |  | Vienna | VA | MG
Intelligence and Security Academy |  | Arlington | VA | MP
Intellivega | Intellivega | San Angelo | TX | SG
IntePros Federal Incorporated | IntePros Federal incorporated | Waltham | MA | MG
Interactive Government Holdings, Inc |  | Springfield | VA | MP
Interactive Process Technology, LLC | IPTA or IPT Associates | Burlington | MA | MG
International Controls Systems, Inc |  | Parker | CO | SG
International Training Fund |  | Annapolis | MD | LP
Interstates, Inc |  | Sioux Center | IA | LG
Intrepid |  | Huntsville | AL | MG
Intrepid Solutions and Services, LLC |  | Ashburn | VA | MP
Intuitive Research and Technology Corporation |  | Huntsville | AL | LP
iostudio, LLC |  | Nashville | TN | MP
IronMountain Solutions |  | Huntsville | AL | MP
IRONWORKERS LOCAL UNION #399 JATC | IRONWORKERS LOCAL UNION #399 JATC | Hammonton | NJ | SG
ISI Professional Services | Interior Systems, Inc | Sterling | VA | MG
IT Concepts, Inc |  | Vienna | VA | MG
IT Depot LLC |  | Leesburg | VA | SP
IT Veterans, LLC | IT Veterans, LLC | Herndon | VA | SP
Itero Group, LLC |  | New Cumberland | PA | MG
iWorkforce Solutions LP |  | Spring | TX | MG
J Vollbrecht Consulting Inc |  | Escalon | CA | SP
JAAW Group, LLC |  | Cottonwood Heights | UT | SG
Jamison Professional Services, Inc |  | East Point | GA | SG
Jane's Group Americas LLC |  | Arlington | VA | MG
Janissary, LLC |  | Houston | TX | MP
JANUS Research Group, LLC | JANUS Research Group, LLC | Evans | GA | LG
JAY AND KAY MANUFACTERING LLC |  | Croswell | MI | SG
JB Management Inc | JBM | Alexandria | VA | SG
JBM Energy Solutions, LLC |  | Lawrenceville | NJ | SP
JCTM LLC |  | Charlotte | NC | MP
JHT, A Precise Systems Company | JHT, A Precise Systems Company | Orlando | FL | MG
Jingoli Nuclear Services, LLC |  | Lawrenceville | NJ | SG
Jingoli Power, LLC |  | Lawrenceville | NJ | MP
JMA Resources, Inc |  | Mechanicsburg | PA | MP
JOBMARKET TRAINING.COM LLC | Intellectual Point | Sterling | VA | SP
Joelle Rabow Maletis & Associates, Inc |  | Mountain View | CA | SG
John H. Northrop & Associates, Inc | JHNA | Clifton | VA | MG
Jovian Concepts, Inc |  | Hanover | MD | MP
JR Kays Trucking Inc |  | Clarendon | PA | SP
KaDSci, LLC |  | Fairfax | VA | SP
Kaizen Approach, Inc |  | Columbia | MD | SP
Kane County Veterans Assistance Commission |  | Geneva | IL | SP
KASTELLUM Group LLC |  | Odessa | FL | SP
Kationx Corp | Kationx | Melbourne | FL | SG
Kent, Campa and Kate (KCK) Inc |  | Arlington | VA | MP
KENTCO Corporation | ProteQ | Herndon | VA | SP
Kern Technology Group, LLC |  | Virginia Beach | VA | SG
Kilda Group LLC |  | Severna Park | MD | SG
Kinaras Solutions |  | Bristow | VA | SG
Kingfisher Systems, Inc |  | Chantilly | VA | MG
Kingsky Flight Academy LLC |  | Lakeland | FL | SG
Kitty Hawk Technologies, LLC |  | King George | VA | SG
Kizano Corp |  | Woodbridge | VA | SP
Knowesis, Inc |  | Fairfax | VA | MP
KODA Technologies Inc |  | Huntsville | AL | MG
Kolme Group LLC |  | Phoenix | AZ | SP
Korn Ferry Professional Search (US) |  | Los Angeles | CA | LG
Kwest Group LLC | Kwest Group | Perrysburg | OH | MP
Lazarus Alliance, Inc | Lazarus Alliance, Inc | Scottsdale | AZ | SP
Leffler Consulting, LLC |  | Chantilly | VA | SP
Legato, LLC |  | Columbia | MD | SP
Leidos |  | Reston | VA | LG
Leonardo DRS, Inc | Leonardo DRS, Inc | Arlington | VA | LG
Leyden Solutions Inc |  | Pinehurst | NC | SG
LG-TEK | LG-TEK | Elkridge | MD | MG
Liberty Alliance, LLC |  | Tampa | FL | SG
Liberty Business Associates, LLC |  | Ladson | SC | MG
Liberty Energy Inc |  | Denver | CO | LG
Life Cycle Engineering |  | Charleston | SC | MP
LinkItAll, LLC | LIA | Fredericksburg | VA | SG
LiveOak, LLC |  | Brunswick | GA | MG
Lockheed Martin Corporation |  | Bethesda | MD | LG
Lodestar Consulting, Inc |  | Charlotte | NC | MP
Long Capture & Contract Management LLC |  | Colorado Springs | CO | SP
LORING JOB CORPS CENTER |  | Limestone | ME | MG
Lovin Acres Farms LLC |  | Brandon | MS | SG
LOWEN Marine and Industrial, LLC |  | Willow Grove | PA | SG
LTC Solutions | LTC Solutions | Stafford | VA | SG
Lynch Consultants, LLC | Lynch Consultants, LLC | Arlington | VA | MG
Mackay Communications, Inc | Mackay Marine | Raleigh | NC | MG
Mainsail Group LLC | Mainsail Group LLC | Bedford | MA | SP
Mammoth Dive Academy |  | Lake Jackson | TX | SG
ManTech International Corp | ManTech | Herndon | VA | LG
Marathon Coach Inc |  | Coburg | OR | MG
Mark My Words LLC | Walker Bookstore | Tempe | AZ | SP
Markon, LLC | Markon Solutions | Falls Church | VA | MP
MartinFederal Consulting, LLC | MartinFed | Huntsville | AL | MP
Maryland Center for Veterans Education & Training | Maryland Center for Veterans Education & Training (MCVET) | Baltimore | MD | SG
Maveris, LLC | Maveris | Martinsburg | WV | MP
Mb Solutions, Inc |  | Huntsville | AL | MG
MBL Technologies | MBL Technologies | Arlington | VA | MG
Mesa Natural Gas Solutions LLC |  | Loveland | CO | MP
Messer North America, Inc | Messer North America, Inc | Bridgewater | NJ | LG
Metallus Inc |  | Canton | OH | LG
Metis Technology Solutions, Inc |  | Albuquerque | NM | MP
Metro Data, Inc |  | Cockeysville | MD | SG
MI Technical Solutions, Inc |  | Chesapeake | VA | MP
Midwestern Construction Services, Inc |  | Ruskin | FL | SG
Miles Technology Solutions LLC | Miles Enterprise Solutions | Charlotte | NC | SP
MILLENNIUM CORPORATION |  | Arlington | VA | MG
Mischler Financial Group |  | Corona Del Mar | CA | MP
Mission Connect ETA LLC |  | Independence | OH | SG
MIT Lincoln Laboratory | MIT Lincoln Laboratory | Lexington | MA | LP
Mitchell Technical College |  | Mitchell | SD | MG
Montachusett Veterans Outreach Center |  | Gardner | MA | SP
Monte Sano Research Corporation |  | Huntsville | AL | MP
Monterey Consultants, Inc |  | Dayton | OH | MP
MorningStar Myco LLC | MorningStar Myco | Reno | NV | SG
Moseley Technical Services, Inc |  | Huntsville | AL | MG
Mountain Logistics LLC | Sierra Transportation | Myrtle Beach | SC | SG
Mountaineer Community Health Center, Inc |  | Paw Paw | WV | SG
Mr Hemp House, llc | Mr Hemp House | Fishers | IN | SP
MSM Technology LLC |  | Gainesville | VA | MG
MTIV LLC | MTIV | Carleton | MI | SG
MTNT Intelligence Solutions, LLC |  | Anchorage | AK | SG
Mule Engineering, Inc | MULE Engineering & Construction, Inc | Winter Garden | FL | SP
Mustard Seed PMO, LLC | MustardSeed | West Chester | PA | SG
Naniq Government Services, LLC |  | Atlanta | GA | SP
National Consulting Partners LLC |  | Woodbridge | VA | SP
National Grid Solutions LLC |  | Cypress | CA | SG
National Native American Construction, Inc | NNAC, Inc | Coeur D'Alene | ID | MG
Nationwide IT Services, Inc |  | Fairfax | VA | MP
Native American Industrial Solutions, LLC |  | Pawleys Island | SC | SP
Naval Systems, Inc |  | Lexington Park | MD | MG
Navigator Development Group Inc | Navigator Development Group Inc | Enterprise | AL | MP
Navigator International LLC |  | Huntsville | AL | MG
Neighbors Bank |  | Columbia | MO | MG
Nemean Solutions, LLC |  | Sierra Vista | AZ | MP
NetCentrics |  | Herndon | VA | MG
NetImpact Strategies | NetImpact Strategies, Inc | Herndon | VA | MP
NeuroScience Associates, Inc | NSALabs | Knoxville | TN | SG
NextEra Energy |  | Juno Beach | FL | LP
NextGen Federal Systems |  | Morgantown | WV | MG
NextOp, Inc | NextOp | Houston | TX | SP
Nighthawk Cyber, LLC |  | Orlando | FL | SG
Nisga'a CIOPS |  | Chantilly | VA | SP
Nisga'a MOSTT |  | Chantilly | VA | SP
Nisga'a Tek, LLC |  | Chantilly | VA | MP
Nonprofit Development Corporation |  | East Butler | PA | SG
North America Mattress Corp | North America Mattress Corp | Clackamas | OR | SG
North American Consulting Services |  | Point Pleasant | WV | SP
NORTH LAWRENCE WATER AUTHORITY |  | Bedford | IN | SG
North Wind Resource Consulting | North Wind Resource Consulting | Idaho Falls | ID | MG
Northeast Illinois Regional Commuter Railroad Corporation | Metra | Chicago | IL | LG
Northrop Grumman Corporation | Northrop Grumman Corporation | Falls Church | VA | LG
Northstrat |  | Sterling | VA | MG
Northwest Veterans Law |  | Salem | OR | SP
NTT Global Data Centers Americas, Inc |  | Sacramento | CA | LG
Oaklea Security Services | Oaklea Simpson Security | Alexandria | VA | MP
Obsidian Solutions Group | Obsidian Solutions Group, LLC | Fredericksburg | VA | MG
OBXtek Inc |  | Mclean | VA | MG
Offset Strategic Services, LLC |  | Huntsville | AL | MP
Okaloosa-Walton Jobs and Education Partnership, Inc | CareerSource Okaloosa Walton | Shalimar | FL | SG
Olympus Solutions Inc |  | Daytona Beach | FL | SG
Omega Consultants, Inc | Omega Technical Services | Oak Ridge | TN | MG
On Time Pkgs LLC |  | Daytona Beach | FL | MG
On Time Plumbing & Air Corp | Benjamin Franklin Plumbing & Mister Sparky Electric | Wilmington | NC | SP
Ondra-Huyett Associates, Inc |  | Allentown | PA | SP
One Corps, Inc |  | Carolina | PR | MG
OP2 Labs |  | Fort Worth | TX | SG
Open Systems Technologies Corporation |  | Gainesville | VA | MP
Operation Healing Forces |  | Tampa | FL | SP
Operation Homefront |  | San Antonio | TX | MG
Optimus Technologies, Inc |  | Pittsburgh | PA | SG
Oregon Transmission and Diesel Center Inc | Town Center Automotive | Clackamas | OR | SG
Ottumwa Job Corps Center | Career Systems Development | Ottumwa | IA | MG
OWT Global, LLC | OWT Global, LLC | Tampa | FL | MG
Oxley Enterprises, Inc |  | Stafford | VA | MG
P-11 Security, Inc |  | Torrance | CA | SP
Pacific Aerospace Consulting, Inc |  | San Diego | CA | SG
Pacific Gas & Electric Company |  | Oakland | CA | LG
Paragon Cyber Solutions, LLC |  | Tampa | FL | SP
PatchPlus Consulting Inc |  | Medford | NJ | MG
Pathfinder Consultants LLC |  | Washington | DC | MG
Patricio Enterprises, Inc |  | Stafford | VA | MP
Patriot Products LLC |  | Franklin | IN | SP
Patriot Supply Unlimited, Inc | The Patriot Group | Lakeside | CA | SG
Patronus Systems Inc | Patronus Systems Inc | Melbourne | FL | MP
PavCon, LLC |  | Latrobe | PA | SG
PeopleTec, Inc |  | Huntsville | AL | LG
Peraton |  | Reston | VA | LG
PERCIVAL, INC | Percival Engineering | Columbia | MD | SP
Peregrine Energy Solutions, LLC |  | Boulder | CO | SP
Peregrine Technical Solutions |  | Yorktown | VA | MP
Permuta Technologies, Inc |  | Vienna | VA | SG
Persistent Systems LLC |  | New York | NY | MP
Phase II Staffing and Contracting, LLC |  | Quantico | VA | SP
phia LLC |  | Fairfax | VA | SP
Phillips 66 |  | Houston | TX | LG
Phoenix Global Support, LLC |  | Fayetteville | NC | SP
Phoenix Management, Inc |  | Cedar Park | TX | MG
Physician Services USA | Physisican Services USA | Columbia | SC | MG
PingWind INC |  | Annandale | VA | MG
PL Consulting, Inc |  | Great Falls | VA | SG
Planate Management Group LLC |  | Alexandria | VA | MP
Planet Technologies, Inc | Planet Technologies Inc | Gaithersburg | MD | MG
Planned Systems International, Inc | Planned Systems International, Inc. (PSI) | Columbia | MD | LG
Platinum Business Services LLC |  | Clarksville | MD | MG
PLEXSYS Interface Products, Inc |  | Camas | WA | MG
Pole Star Space Applications USA, Inc | Pole Star Defense | Saint Petersburg | FL | SG
Positive Construction Solutions LLC | Positive Construction Solutions LLC | Huntingtown | MD | SG
Posterity Group LLC | Posterity Group LLC | Rockville | MD | MG
PowerTrain, Inc |  | Hyattsville | MD | MP
PPC SOLUTIONS INC |  | Spokane Valley | WA | MG
PPT Solutions, Inc |  | Huntsville | AL | SG
Practical Intelligence, LLC |  | Gambrills | MD | SP
Precise Systems, Inc | Precise Systems | Lexington Park | MD | LG
Precision Concrete Cutting | Precision Concrete Cutting | Escondido | CA | SG
Prevailance, Inc | Prevailance, Inc | Virginia Beach | VA | MP
Principle Services L.L.C |  | Canyon | TX | SG
Priority 1 Air Rescue Operations (Arizona) LP |  | Mesa | AZ | SG
Professional Contract Services, Inc. PCSI |  | Austin | TX | LP
Professional Solutions Delivered, LLC |  | King George | VA | MP
Programatics, LLC |  | Alexandria | VA | SP
Project Management Professional Services Corporation | The PMO Squad | Gilbert | AZ | SP
Promising People, LLC |  | Minneola | FL | SP
ProSync Technology Group |  | Ellicott City | MD | MG
Provalus |  | Atlanta | GA | LG
PSI |  | Knoxville | TN | MG
Puget Sound Energy |  | Bellevue | WA | LG
Qualis Corporation |  | Huntsville | AL | MP
Quecon, Inc |  | Front Royal | VA | MP
Quick Services LLC | QSL | Fayetteville | NC | MP
Quiet Professionals LLC |  | Tampa | FL | MP
R3 |  | Coronado | CA | MP
Radiance Technologies |  | Huntsville | AL | LG
Radline Consulting, INC | Radline Consulting | Lincoln | CA | SG
RB Consulting, Inc | RBCI | Frederick | MD | MP
RB Intermodal LLC | RB Intermodal LLC | Jackson | TN | SG
RC4VETS LLC |  | San Antonio | TX | SG
Ready Support Services, LLC |  | Plano | TX | SP
Realized Solutions for Government, LLC | RS4G LLC | Oakton | VA | SG
REDI Transports |  | Green Bay | WI | SP
RedSky LLC |  | Aldie | VA | SP
REE Medical, LLC |  | Surprise | AZ | MP
ReefPoint Group, LLC |  | Annapolis | MD | MP
Regenesis Biomedical, Inc |  | Scottsdale | AZ | MG
Reinaert LLC |  | Pinellas Park | FL | SG
RELI Group Inc |  | Catonsville | MD | LG
Reliability & Performance Technologies, LLC | R&P Technologies, LLC | Dublin | PA | MP
RELYANT Global, LLC |  | Maryville | TN | MP
Rembert Area Community Coalition | RACC | Rembert | SC | SG
Renaissance Global Services LLC |  | Holmdel | NJ | SP
Renewable Energy Systems LLC | Renewable Energy Systems | Avilla | IN | SP
Research and Development Solutions, Inc | RDSI | North Kingston | RI | MG
Resolute ISR, Inc |  | Howell | MI | SG
ResolveSoft, Inc |  | Elkridge | MD | SG
Responsible Medical Solutions |  | Temecula | CA | MP
RESULTS Technology, INC |  | Overland Park | KS | SG
Revolution National Pest Council |  | Carson | CA | SP
RF Logistics, LLC | RF Logistics LLC | Fairfax | VA | MP
Ricardo Defense | Ricardo Defense | Troy | MI | MG
Richard Group LLC | Richard Group LLC | Chicago | IL | MG
RightDirection Technology Solutions LLC | RDTS | Baltimore | MD | MP
risk3sixty LLC |  | Roswell | GA | SP
Rite-Solutions, Inc | Rite-Solutions, Inc | Middletown | RI | MP
Riverside Research Institute |  | Arlington | VA | LG
Roberts & Ryan Inc |  | New York | NY | SG
rockITdata LLC |  | Philadelphia | PA | MP
Rolle IT LLC | Rolle IT | Melbourne | FL | SG
RTI Consulting, LLC |  | Marshall | VA | SG
RTX | RTX | Arlington | VA | LP
Rubicon Technical Services, LLC |  | Kennesaw | GA | MP
Ruchman and Associates, Inc |  | Nottingham | MD | MG
Rullan-OBrien LLC | Maricamp Animal Hospital | Ocala | FL | SG
RVET Operating, LLC | RecruitMilitary | Chesapeake | VA | MG
S.B, Inc | Sherman Bros. Heavy Trucking | Harrisburg | OR | MP
Sabre Systems, Inc |  | Warminster | PA | MG
Safespill |  | Houston | TX | SP
Sakom Services WI LLC |  | Shawano | WI | SP
Saliense Consulting |  | Tysons | VA | MG
Salute Mission Critical, LLC |  | Franklin | WI | LP
Sam Pack's Five Star Ford Carrollton | Sam Pack's Five Star Ford Carrollton | Carrollton | TX | MG
Samsung Austin Semiconductor |  | Austin | TX | LG
Sancorp Consulting, LLC | Sancorp Consulting, LLC | Mclean | VA | MG
Sandia National Laboratories | Sandia National Laboratories | Albuquerque | NM | LP
scDataCom | scDataCom | Savannah | GA | SP
Science Applications International Corporation (SAIC) | SAIC | Reston | VA | LG
Scientific Research Corporation | Scientific Research Corporation | Atlanta | GA | LG
SDV Construction Inc |  | Albuquerque | NM | MG
SEACORP, LLC |  | Middletown | RI | LP
Sealing Technologies, LLC |  | Columbia | MD | MG
Security 1 Solutions LLC | Security 1 Solutions LLC | Gaithersburg | MD | MG
Segment HR LLC |  | The Woodlands | TX | MG
Semper Valens Solutions, Inc |  | Canyon Lake | TX | MP
Senspex, Inc |  | Rio Rancho | NM | MG
Sentar, Inc | Sentar, Inc | Huntsville | AL | MP
Serco, Inc | Serco, Inc | Herndon | VA | LG
ServiceSource, Inc |  | Oakton | VA | LG
SERVPRO of Belle Meade | SERVPRO of Belle Meade | Nashville | TN | SG
Sevan Multi-Site Solutions, Inc |  | Downers Grove | IL | MG
Seventh Dimension, LLC |  | Mocksville | NC | MG
Sharp Decisions, Inc | Sharp Decisions, Inc | New York | NY | MG
Shearer & Associates, Inc |  | Huntsville | AL | SP
Sherpa 6, Inc |  | Littleton | CO | MG
Shine Systems LLC | Shine Enterprises LLC | Charlottesville | VA | MG
Short Powerline Service, LLC |  | Glenrock | WY | MG
Siemens Energy Inc |  | Orlando | FL | LG
Sierra Management and Technologies, Inc |  | California | MD | MG
Sierra Nevada Co LLC | SNC | Sparks | NV | LG
Sierra7, Inc |  | Mclean | VA | MG
Sigma Defense Systems, Inc |  | Perry | GA | MP
SIMCO Electronics |  | Santa Clara | CA | MG
Simulation Technologies, Inc.—SimTech |  | Huntsville | AL | MP
SITE Staffing, Inc |  | Milwaukee | WI | MP
SkillStorm Commercial Services, LLC |  | Jacksonville | FL | MG
Sky Climber Wind Solutions, LLC | Sky Climber Renewables | Delaware | OH | LP
SkyBridge Tactical LLC |  | Tampa | FL | MP
SMS Data Products Group, Inc |  | Mclean | VA | LG
SNVC, LC |  | Herndon | VA | SP
SOLKOA Inc |  | Colorado Springs | CO | MG
Solution One Industries Inc |  | Killeen | TX | MG
Solutions for Information Design, LLC | SOLID | Fairfax Station | VA | MG
Sonalysts Inc |  | Waterford | CT | MP
SOSi | SOS International |  | Reston | VA | LG
South Central Workforce Development Board |  | Bowling Green | KY | SP
South River Federal Solutions LLC | SRFed | Edgewater | MD | SP
Southeast Medical Group | Southeast Primary Care Partners | Alpharetta | GA | LG
Southern Company | Southern Company | Atlanta | GA | LP
Spathe Systems |  | Tampa | FL | MP
Spectral Labs Incorporated | Spectral Labs Incorporated | San Diego | CA | SG
Spees LLC | Spees Design Build | Kent | WA | SP
SteerBridge Strategies, LLC |  | Vienna | VA | MP
Stellar Solutions, Inc |  | Los Altos | CA | MG
STEMBoard, LLC |  | Arlington | VA | SG
Stop the Addiction Fatality Epidemic (SAFE) Project US | SAFE Project | Arlington | VA | SP
Strata-G, LLC |  | Knoxville | TN | MP
Strategic Alliance Business Group LLC |  | Fairfax | VA | MP
Strategic Staffing Solutions L.C |  | Detroit | MI | MG
StrateZen | ZENDEV & Co | Mesa | AZ | SP
Sumaria Systems, LLC |  | Peabody | MA | MG
Summit 7 Systems, LLC | Summit 7 Systems, LLC | Huntsville | AL | MG
Summit Aviation |  | Middletown | DE | MP
Summit Exercises and Training |  | Saint Petersburg | FL | SG
SupplyCore, Inc |  | Rockford | IL | MG
Support The Enlisted Project, Inc | STEP | San Diego | CA | SG
SURVICE Engineering Company, LLC |  | Belcamp | MD | MG
Survival Systems USA, Inc |  | Groton | CT | SG
Sycamore Concierge LLC | Sycamore Springs Farm on Springboro | Brookston | IN | SG
Syndetix, Inc |  | Las Cruces | NM | SG
Syntelligent Analytic Solutions, LLC |  | Falls Church | VA | MP
Sysmex America Inc | Sysmex America Inc | Lincolnshire | IL | LG
System Studies & Simulation, Inc |  | Huntsville | AL | MP
Systems Planning & Analysis |  | Alexandria | VA | LG
Systems Products and Solutions, Inc |  | Huntsville | AL | MG
Systems Technology & Research, Inc |  | Huntsville | AL | SP
T and T Consulting Services, In |  | Falls Church | VA | MP
T3i, Inc |  | San Antonio | TX | MG
TAC Transportation Inc | Pacific Crest Bus Lines | Redmond | OR | SG
Tactical Air Support, Inc |  | Reno | NV | MP
Tactical Engineering & Analysis, Inc |  | San Diego | CA | MG
Tactical Rehabilitation, Inc |  | Vero Beach | FL | SP
Tactical Training Center, LLC | TTC, LLC | Flemington | NJ | SG
Tailored Access, LLC | Tailored Access, LLC | Annapolis Junction | MD | MG
Tangent Technologies, LLC |  | Mclean | VA | SG
Target Media Mid Atlantic, Inc | Target Systems | Mechanicsburg | PA | MG
TBS CHARITY INCORPORATED |  | Queens Village | NY | SG
Team Carney, Inc |  | Alexandria | VA | MP
Team Cymru, Inc |  | Lake Mary | FL | MG
TeamWorx Security Inc |  | Columbia | MD | SP
Tech62, Inc | Tech62 | Fairfax | VA | SG
TechFlow, Inc |  | San Diego | CA | MG
Tech-Marine Business, Inc. (TMB) |  | Washington | DC | MG
Technical Assent, LLC |  | Arlington | VA | MG
Technology Learning Group Inc | TLG Learning | Bellevue | WA | SG
Technology Security Associates, Inc | TSA | California | MD | MG
TechOp Solutions International, Inc |  | Stafford | VA | MP
Tekmanagement, Inc | Tekmanagement, Inc | Medford | OR | SP
TekSynap |  | Reston | VA | LG
Telum Protection Corporation | Telum | Southern Pines | NC | SG
Tenacity Solutions, LLC |  | North Bethesda | MD | SP
Tenova, LLC |  | Fairfax | VA | MG
Tetrad Digital Integrity, LLC |  | Washington | DC | MG
Textron Systems Corporation | Textron Defense Systems | Hunt Valley | MD | LG
TG Oil Services Inc |  | Hialeah | FL | SG
The Arbinger Institute LLC |  | Farmington | UT | MG
The Boeing Company | The Boeing Company | Arlington | VA | LG
The Construction Services Group, Inc |  | Charleston | SC | SP
The Emfield Team |  | Pleasant Grove | UT | SG
The Greentree Group |  | Beavercreek | OH | MP
The Informatics Applications Group, Inc | TIAG | Reston | VA | MP
The Intellekt Group |  | San Antonio | TX | MG
The McHenry Management Group (TMMG) | TMMG | Chesapeake | VA | MG
The Metamorphosis Group, Inc |  | Vienna | VA | SG
The Podmilsak Group, Inc | PGTEK | Ashburn | VA | MP
The Rockhill Group, Inc |  | Molino | FL | MP
THE ROCKWOOD GROUP INC |  | Athens | AL | SG
The Winvale Group, LLC |  | Richmond | VA | SG
The Wolverine Group |  | Washington | DC | SG
THMG Inc | The Garrett Group | Bellevue | NE | MG
Thompson Metal Fab, Inc |  | Vancouver | WA | MG
Thrust Tech Accessories, Inc |  | Ft. Lauderdale | FL | SG
Titan Associates Group Inc | Titan Associates Group Inc | Athens | TN | SG
Topsarge Business Solutions | Topsarge Business Solutions | Temple | TX | SG
Torden LLC | Torden LLC | Tiverton | RI | LG
Total Systems Technologies Corporation | TSTC | Arlington | VA | SP
Trade Training Company | Sonoran Desert Institute | Tempe | AZ | MG
Transmission Distribution Service | TDS Construction | Glenrock | WY | SG
TREALITY SVS, LLC |  | Xenia | OH | SP
TREIG LLC |  | Rockwall | TX | SP
Trewon Technologies, LLC |  | Leesburg | VA | SP
T-Rex Solutions LLC |  | Bethesda | MD | MG
Tri Sea Stabilizers, LLC |  | Ft Lauderdale | FL | SG
TRIDENT 11 LLC |  | Tulsa | OK | SG
Trident Technologies and Consulting—Global, LLC | T2C-Global | Wesley Chapel | FL | SG
Trideum Corporation |  | Huntsville | AL | MP
Trinity Information Technology LLC |  | Yardley | PA | SG
Tripoint Solutions Group | Athios | Alexandria | VA | SG
TriWest Healthcare Alliance |  | Phoenix | AZ | LG
Trust Consulting Services |  | Washington | DC | MG
TruView BSI, LLC |  | Melville | NY | MG
TruWeather Solutions, Inc |  | Syracuse | NY | SP
TWO HAWK EMPLOYMENT SERVICES | TWO HAWK EMPLOYMENT SERVICES | Lumberton | NC | MG
Two-Tac, LLC | G.I. Johns | Manassas Park | VA | SG
U.S. Vet General Contracting, LLC |  | McFarland | WI | SG
Umpqua Family Therapy llc | Umpqua Family Therapy llc | Roseburg | OR | SG
United Brotherhood of Carpenters—UBC MVP | United Brotherhood of Carpenters | Washington | DC | MP
United Brotherhood of Carpenters and Joiners of America Local 254 |  | Edison | NJ | LG
United Rentals, Inc |  | Stamford | CT | LP
United Veterans Construction and Landscape Solutions, Inc |  | Fort Worth | TX | SP
Universal Strategy Group Incorporated |  | Franklin | TN | MG
Universal Technical Resource Services, Inc |  | Cherry Hill | NJ | MG
Universal Thin Film Lab Corp | Universal Thin Film Lab Corp. | Newburgh | NY | SG
USA Environmental, Inc | USA Environmental, Inc | Oldsmar | FL | MG
USfalcon, Inc | USfalcon, Inc | Cary | NC | MG
Ute Water Conservancy District |  | Grand Junction | CO | MG
VA Wholesale Mortgage Inc |  | Virginia Beach | VA | SP
Valor Network Inc |  | Glassboro | NJ | SG
VANTAGE POINT CONSULTING INC |  | West Linn | OR | SG
Vaultes, LLC |  | Reston | VA | SG
Vector Force Development, LLC |  | Westminster | CO | MG
Velocity Maintenance Solutions LLC |  | Absecon | NJ | SG
Verium, LLC |  | Owings | MD | SG
Veterans Alliance |  | Stateline | NV | SG
Veterans Assistance Commission of Lake County |  | Gurnee | IL | SG
Veterans Bridge Home |  | Charlotte | NC | SP
Veterans Changing Services, Inc | Veterans Life Changing Services | Gary | IN | SG
Veterans Guardian VA Claim Consulting |  | Pinehurst | NC | MP
Veterans Inc | Veterans Inc | Worcester | MA | MP
Veterans Management Services, Inc | VMSI | Sterling | VA | MP
Veterans Medical Distributors, Inc |  | Jupiter | FL | SG
Veterans Medical Supply Inc |  | St. Petersburg | FL | SG
Veterans Mortgage of America, Inc |  | Dallas | TX | SG
Veterans Moving America LLC |  | Fort Worth | TX | SG
Veterans Outreach Center, Inc |  | Rochester | NY | SG
Veterans Stand Together |  | South Gate | CA | SG
Veterans Trading Company Inc |  | Salt Lake City | UT | MG
Veterans United Home Loans | Veterans United Home Loans | Columbia | MO | LG
VETForce, Inc | VETFORCE, INC | Lock Haven | PA | SG
VETS, LLC | Veterans Engineering, Training, & Services | Huntsville | AL | SP
Vets2PM, LLC |  | Indialantic | FL | SG
VetsEZ |  | San Diego | CA | MG
Vetted Tech Inc |  | Syracuse | NY | SP
ViaPath Technologies | Global Tel*Link | Falls Church | VA | LP
Victory Solutions, Inc |  | Huntsville | AL | MP
Village of Hanover Park |  | Hanover Park | IL | MG
Virtual Service Operations | VSO | Manassas | VA | MP
VISTA Technology Services, Inc |  | Arlington | VA | MP
Vulcan, Inc |  | Foley | AL | MG
W R Systems, Ltd |  | Fairfax | VA | MG
Walsh Enterprises, LLC |  | Dayton | TX | SG
Walsingham Group, Inc |  | Fayetteville | NC | MP
Wander Staffing |  | Austin | TX | SG
Warfeather |  | Coweta | OK | SP
Warrior Service Company LLC |  | Palm Springs | FL | MG
Watco | Watco Companies, LLC | Pittsburg | KS | LG
Waterdogs SCUBA and Safety LLC |  | Clarksville | TN | SG
Watermark Risk Management International, LLC |  | Triangle | VA | MP
Watershed Security, LLC |  | Chesapeake | VA | SP
Watteredge, LLC |  | Avon Lake | OH | MG
Web Business Solutions Inc | WBSI | Fredericksburg | VA | SG
WEL Companies Inc |  | De Pere | WI | MG
West Point Engineers LLC |  | Louisville | KY | SG
Westerwood Global USA Corporation | WGNSTAR | Malta | NY | MP
Whalls Group LLC |  | Aliso Viejo | CA | SG
William C. Brown, Inc | William C Brown Inc | Manassas | VA | SP
Williams Creek Management Corporation |  | Plainfield | IN | SG
Willis Mechanical Inc |  | Norcross | GA | SP
Windstream Holdings |  | Little Rock | AR | LP
WorkerBees Staffing LLC |  | Lakeland | FL | SG
Worldwide Counter Threat Solutions, LLC |  | Fredericksburg | VA | SG
Wounded Warrior Project, Inc | Wounded Warrior Project | Jacksonville | FL | LG
WPS Labor, LLC |  | Rogers | AR | SG
XCEL Engineering, Inc |  | Oak Ridge | TN | SP
Xynergie Corp |  | Gurabo | PR | SG
Zero Point, Incorporated | Zero Point Incorporated | Virginia Beach | VA | MP

Dated: December 17, 2024.
James D. Rodriguez,
Assistant Secretary, Veterans' Employment and Training Service.

[FR Doc. 2024-30419 Filed 12-19-24; 8:45 am]

BILLING CODE 4510-79-P